DEPARTMENT OF LABOR

Office of Workers' Compensation Programs

[OMB Control No. 1240-0018]

Proposed Extension of Information Collection; Employers' Claim for Reimbursement Assisted Reemployment (AR) Program

AGENCY: Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP is soliciting comments on the information collection for the Claim for Reimbursement—Assisted Reemployment, CA-2231.

DATES: All comments must be received on or before June 2, 2025.

ADDRESSES: You may submit comment as follows. Please note that late, untimely filed comments will not be considered.

Electronic Submissions: Submit electronic comments in the following way:

• Federal eRulemaking Portal: https://www.regulations.gov. Follow the instructions for submitting comments for WCPO-2025-0005. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP, Division of Federal Employees' Compensation, 200 Constitution Ave. NW, Room S-3323, Washington, DC 20210.

• OWCP will post your comment as well as any attachments, except for information submitted and marked as confidential, in the docket at https://www.regulations.gov.

FOR FURTHER INFORMATION CONTACT: Anjanette Suggs, Office of Workers' Compensation Programs, at suggs.anjanette@dol.gov@dol.gov (email).

SUPPLEMENTARY INFORMATION:

I. Background

The Office of Workers' Compensation Programs (OWCP) administers the Federal Employees' Compensation Act (FECA) under 5 U.S.C. 8101 et seq. This act provides vocational rehabilitation services to eligible workers with disabilities. Section 8104(a) of the FECA provides vocational rehabilitation to eligible injured workers to facilitate their return to work. The costs of providing these vocational rehabilitation services are paid from the Employees' Compensation Fund. Annual appropriations language under the Consolidated Appropriations Act of 2022 (currently in Pub. L. 117-103), provides OWCP with legal authority to use amounts from the Fund to reimburse private sector employers for a portion of the salary of reemployed FECA claimants hired through OWCP's assisted reemployment program. Additionally, 5 U.S.C. 8111 provides that an individual undergoing vocational rehabilitation under section 8104 may be paid additional compensation necessary for his maintenance, which is initiated by an employer for a claimant using form CA-2231, Employers' Claim for Reimbursement Assisted Reemployment (AR) Program.

See: Bulletins, Circulars, and Transmittals (BCT) FY12 | U.S. Department of Labor.

II. Desired Focus of Comments

OWCP is soliciting comments concerning the proposed information collection related to the Request for Employment Information. OWCP is particularly interested in comments that:

Evaluate whether the collection of information is necessary for the proper performance of the functions of the Agency, including whether the information has practical utility;

Evaluate the accuracy of OWCP/DFEC's estimate of the burden related to the information collection, including the validity of the methodology and assumptions used in the estimate;

Suggest methods to enhance the quality, utility, and clarity of the information to be collected; and

Minimize the burden of the information collection on those who are to respond, including through the use of appropriate automated, electronic, mechanical, or other technological collection techniques or other forms of information technology, e.g., permitting electronic submission of responses.

Documents related to this information collection request are available at https://regulations.gov and at DOL-OWCP located at 200 Constitution Ave. NW, Room S-3323, Washington, DC 20210. Questions about the information collection requirements may be directed to the person listed in the FOR FURTHER INFORMATION section of this notice.

III. Current Actions

This information collection request concerns the Employers' Claim for Reimbursement Assisted Reemployment (AR) Program, CA-2231. OWCP has updated the data with respect to the number of respondents, responses, burden hours, and burden costs supporting this information collection request from the previous information collection request.

Type of Review: Extension, without change, of a currently approved collection].

Agency: Office of Workers' Compensation Programs.

OMB Number: 1240-0018.

Affected Public: Private Sector—Business or other For-profits.

Number of Respondents: 14.

Number of Responses: 56.

Annual Burden Hours: 28 hours.

Annual Respondent or Recordkeeper Cost: $736.12.

OWCP Forms: DFEC Form Employers' Claim for Reimbursement Assisted Reemployment (AR).

Comments submitted in response to this notice will be summarized in the request for Office of Management and Budget approval of the proposed information collection request; they will become a matter of public record and will be available at https://www.reginfo.gov.

Anjanette Suggs,
Certifying Officer.

[FR Doc. 2025-05583 Filed 4-1-25; 8:45 am]

BILLING CODE 4510-CH-P